Title 3—

The President

Proclamation 7536 of April 1, 2002

Cancer Control Month, 2002

By the President of the United States of America

A Proclamation

Our Nation is making important progress in the fight against cancer. Today, 8.9 million Americans have survived this disease, and new studies indicate that both cancer incidence and death rates have declined in recent years. Research and new technology have helped improve our ability to prevent, detect, and treat cancer. We understand better and are communicating more effectively the preventative power of regular exercise, a balanced diet, not smoking, and greater health awareness. Despite this progress, cancer remains a major public health problem that affects millions of lives.

Each day, more than 1,500 Americans die from cancer and 3,500 are diagnosed with some form of the disease. But we are closing in on major breakthroughs that will lead to new cancer therapies and life-saving cures.

The National Cancer Institute (NCI) is leading the way as it explores hundreds of methods to combat and prevent cancer. Recognizing that early detection of cancer often makes a difference between life and death, the NCI is utilizing revolutionary genetic and biochemical processes to develop tests that more effectively detect cancer at its earliest stage.

Scientists are discovering that the use of ultraviolet light fluorescence to examine the lungs is more likely to identify precancerous lesions than current techniques. Other NCI researchers are investigating drugs that may stop cancerous growths by preventing new blood vessels from reaching the tissues. And a new class of drugs, known as bisphosphonates, shows great promise against cancer that has spread to the bone. The NCI's important work, in coordination with other public and private health agencies, is helping to reduce the incidence of cancer and is assisting cancer survivors to lead richer, fuller, and longer lives.

The National Comprehensive Cancer Control Initiative, sponsored by the Centers for Disease Control and Prevention, is a valuable resource to support and coordinate cancer control efforts at the Federal, State, and local levels. This project helps ensure that cancer prevention, detection, and treatment programs across the country work effectively with each other by reducing duplicated efforts and missed opportunities. My Administration is strongly committed to the fight against cancer and will continue to support Federal cancer control programs.

As we observe Cancer Control Month, I applaud the scientists, healthcare providers, and public health professionals who work tirelessly to find cures for this disease and to aid and assist the patients who suffer from it. I call on all our citizens to learn more about cancer by contacting the NCI's Cancer Information Service at 1-800-4-CANCER or visiting its Internet address at http://www.cancer.gov. I also encourage all Americans to protect their health by promoting cancer awareness in their families and communities. Individuals should pursue a lifestyle that includes regular exercise, sufficient consumption of fruits and vegetables, avoidance of tobacco products, and regular age-appropriate cancer screenings. By working together to raise awareness about the risks of cancer and the importance of medical research, we can improve the quality of life for millions of Americans and ultimately defeat this terrible disease.

In 1938, the Congress of the United States passed a joint resolution (52 Stat. 148; 36 U.S.C. 103) as amended, requesting the President to issue an annual proclamation declaring April as “Cancer Control Month.”

NOW, THEREFORE, I, GEORGE W. BUSH, President of the United States of America, by virtue of the authority vested in me by the Constitution and laws of the United States, do hereby proclaim April 2002 as Cancer Control Month. I call on concerned citizens, government agencies, private industry, nonprofit organizations, and other interested groups to reaffirm our Nation's commitment to preventing and curing cancer.

IN WITNESS WHEREOF, I have hereunto set my hand this first day of April, in the year of our Lord two thousand two, and of the Independence of the United States of America the two hundred and twenty-sixth.

B

[FR Doc. 02-8856

Filed 4-9-02; 8:45 am]

Billing code 3195-01-P